FEDERAL COMMUNICATIONS COMMISSION

[OMB 3060-0804; FRS 16432]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written PRA comments should be submitted on or before March 30, 2020. If you anticipate that you will be submitting comments, but find it difficult to do so within the period of time allowed by this notice, you should advise the contact listed below as soon as possible.

ADDRESSES: Direct all PRA comments to Nicole Ongele, FCC, via email PRA@fcc.gov and to Nicole.ongele@fcc.gov.

FOR FURTHER INFORMATION CONTACT: For additional information about the information collection, contact Nicole Ongele, (202) 418-2991.

SUPPLEMENTARY INFORMATION:

OMB Control Number: 3060-0804.

Title: Universal Service—Rural Health Care Program.

Form Numbers: FCC Forms 460, 461, 462, 463, 465, 466, and 467.

Type of Review: Revision of a currently approved collection.

Respondents: Business or other for-profit; Not-for-profit institutions; Federal Government; and State, Local, or Tribal governments.

Number of Respondents and Responses: 10,494 unique respondents; 93,687 responses.

Estimated Time per Response: 0.30-17 hours.

Frequency of Response: On occasion, One-time, Annual, Quarterly, and Monthly reporting requirements.

Obligation to Respond: Required to obtain or retain benefits. Statutory authority for this collection of information is contained in sections 1-4, 201-205, 214, 254, 303(r), and 403 of the Communications Act of 1934, as amended, 47 U.S.C. 151-154, 201-205, 214, 254, 303(r), and 403, unless otherwise noted.

Total Annual Burden: 382,741 hours.

Total Annual Cost: No Cost.

Privacy Impact Assessment: No Impact(s).

Nature and Extent of Confidentiality: There is no assurance of confidentiality provided to respondents concerning this information collection. Information submitted on FCC Forms for the RHC Program is subject to public inspection and is used by USAC to update and expand the RHC Program dataset as part of its Open Data Platform. However, respondents may request materials or information submitted to the Commission or to USAC be withheld from public inspection under 47 CFR 0.459 of the FCC's rules.

Needs and Uses: The Commission seeks OMB approval of revisions (change in reporting and recordkeeping requirements) to this information collection as a result of the 2019 Promoting Telehealth Report and Order (WC Docket No. 17-310; FCC 19-78; 84 FR 54952, October 11, 2019). This collection is utilized for the RHC support mechanism of the Commission's universal service fund (USF). The collection of this information is necessary so that the Commission and the Universal Service Administrative Company (USAC) will have sufficient information to determine if entities are eligible for funding pursuant to the RHC universal service support mechanism, to determine if entities are complying with the Commission's rules, and to prevent waste, fraud, and abuse. This information is also necessary in order to allow the Commission to evaluate the extent to which the RHC Program is meeting the statutory objectives specified in section 254(h) of the 1996 Act, and the Commission's performance goals for the RHC Program.

This information collection is being revised to: (1) Extend some of the existing information collection requirements for the Healthcare Connect Fund and Telecommunications (Telecom) Programs; (2) revise some of the information collection requirements for the Healthcare Connect Fund and Telecom Programs and (3) add some new information collection requirements applicable to both the Healthcare Connect Fund Program and the Telecom Program as a result of the 2019 Promoting Telehealth Report and Order. As part of this information collection, the Commission is also revising the FCC Form templates for both programs, reformatting and revising the Telecommunications Program Invoice Template, and creating a new Post-Commitment Request Form consistent with the changes adopted in the 2019 Promoting Telehealth Report and Order and to promote transparency into the RHC Program procedures and requirements.

The Healthcare Connect Fund Program currently includes FCC Forms 460, 461, 462, and 463 and the Telecom Program currently includes FCC Forms 465, 466, and 467. The revisions to these FCC Form templates, where applicable, are intended to make the RHC Program information requests consistent between the programs, to the extent possible, and help to ensure and verify that RHC Program participants are not engaging in fraudulent conduct or otherwise violating the Commission's rules. Some of the changes to the FCC Form templates have different effective dates. Therefore, for administrative ease, we have indicated the applicable funding year of the FCC Form template, and where a specific form includes changes applicable to funding year 2020 and others to funding year 2021, we have provided separate forms applicable to each funding year. In the 2019 Promoting Telehealth Report and Order, the Commission directed USAC to streamline the data collection requirements and consolidate the program forms to the extent possible. Such streamlining and consolidation will not affect the underlying information collected as part of this information collection, but may change the format in which it may be collected. The information on the FCC Form templates is a representative description of the information to be collected via an online portal and is not intended to be a visual representation of what each applicant or service provider will see, the order in which they will see information, or the exact wording or directions used to collect the information. Where possible, information already provided by applicants from previous filing years or that was pre-filed in the system portal will be carried forward and auto-generated into the form to simplify the information collection for applicants. Additionally, in the 2019 Promoting Telehealth Report and Order, the Commission adopted rules to reflect the changes in the Report and Order. The new and revised rules impacted by this collection are listed and described within the collection.

Federal Communications Commission.
Marlene Dortch,
Secretary, Office of the Secretary.

[FR Doc. 2020-01733 Filed 1-29-20; 8:45 am]

BILLING CODE 6712-01-P